DEPARTMENT OF TRANSPORTATION

National Highway Traffic Safety Administration

[Docket No. NHTSA-2003-16318]

Vehicle Weight, Fatality Risk and Crash Compatibility of Model Year 1991-99 Passenger Cars and Light Trucks; Technical Report

AGENCY: National Highway Traffic Safety Administration (NHTSA), Department of Transportation.

ACTION: Request for comments on technical report.

SUMMARY: This notice announces NHTSA's publication of a technical report describing relationships between a vehicle's mass and type and its rate of involvement in fatal crashes. The report's title is Vehicle Weight, Fatality Risk and Crash Compatibility of Model Year 1991-99 Passenger Cars and Light Trucks.

DATES: Comments must be received no later than March 24, 2004.

ADDRESSES: Report: You may obtain a copy of the report free of charge by sending a self-addressed mailing label to Publications Ordering and Distribution Services (NAD-51), National Highway Traffic Safety Administration, 400 Seventh Street, SW., Washington, DC 20590. A summary of the report is available on the Internet for viewing on line at http://www.nhtsa.dot.gov/cars/rules/regrev/evaluate/809662.html. The full report is available on the Internet in PDF format at http://www.nhtsa.dot.gov/cars/rules/regrev/evaluate/pdf/809662.pdf.

Comments: You may submit comments [identified by DOT DMS Docket Number NHTSA-2003-16318] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 am and 5 pm, Monday through Friday, except Federal Holidays.

• Federal eRulemaking Portal: Go to http://www.regulations.gov. Follow the online instructions for submitting comments.

You may call Docket Management at 202-366-9324 and visit the Docket from 10 a.m. to 5 p.m., Monday through Friday.

FOR FURTHER INFORMATION CONTACT: Charles J. Kahane, Chief, Evaluation Division, NPO-321, Office of Planning, Evaluation and Budget, National Highway Traffic Safety Administration, Room 5208, 400 Seventh Street, SW, Washington, DC 20590. Telephone: 202-366-2560. FAX: 202-366-2559. E-mail: ckahane@nhtsa.dot.gov.

For information about NHTSA's evaluations of the effectiveness of existing regulations and programs: Visit the NHTSA Web site at http://www.nhtsa.dot.gov and click “Regulations & Standards” underneath “Car Safety” on the home page; then click “Regulatory Evaluation” on the “Regulations & Standards” page.

SUPPLEMENTARY INFORMATION: The technical report uses logistic regression analyses to calibrate crash fatality rates per billion miles traveled for model year 1991-99 passenger cars, pickup trucks, SUVs and vans during calendar years 1995-2000—by vehicle weight, vehicle type, driver age and gender, urban/rural, and other vehicle, driver and environmental factors—a cross-sectional analysis of the fatality rates of existing vehicles. The “crash” fatality rate for a model includes fatalities to occupants of that model, occupants of the other vehicles that model collides with, and any pedestrians. These analyses suggest that, after controlling for driver age/gender, urban/rural, annual mileage, and other factors:

• The association between vehicle weight and overall crash fatality rates in the heavier MY 1991-99 LTVs (light trucks and vans) was not significant.

• In three other groups of MY 1991-99 vehicles “ the lighter LTVs, the heavier cars, and especially the lighter cars “ fatality rates increased as weights decreased.

• MY 1996-99 pickup trucks and SUVs had, on the average, higher fatality rates than MY 1996-99 passenger cars or minivans of comparable weight.

Logistic regression analyses of fatalities per billion miles in two-vehicle collisions show that MY 1991-99 LTVs were more aggressive than MY 1991-99 cars when they struck other vehicles. The analyses show correlations between occupants' fatality risk in the struck car and the frontal height-of-force and rigidity of the striking LTV.

The technical report supersedes a 1997 NHTSA study on this topic titled Relationship of Vehicle Weight to Fatality and Injury Risk in Model Year 1985-93 Passenger Cars and Light Trucks (DOT HS 808 569, http://www.nhtsa.dot.gov/cars/rules/regrev/evaluate/808569.html.) A request for comments on that notice was published in the Federal Register on June 26, 1997 (62 FR 34491).

How Can I Influence NHTSA's Thinking on This Subject?

NHTSA welcomes public review of the technical report and invites reviewers to submit comments about the data and the statistical methods used in the analyses. NHTSA will submit to the Docket a response to the comments and, if appropriate, additional analyses that supplement or revise the technical report.

How Do I Prepare and Submit Comments?

Your comments must be written and in English. To ensure that your comments are correctly filed in the Docket, please include the Docket number of this document (NHTSA-2003-16318) in your comments.

Your primary comments must not be more than 15 pages long (49 CFR 553.21). However, you may attach additional documents to your primary comments. There is no limit on the length of the attachments.

Please send two paper copies of your comments to Docket Management, submit them electronically, fax them, or use the Federal eRulemaking Portal. The mailing address is U.S. Department of Transportation Docket Management, Room PL-401, 400 Seventh Street, SW., Washington, DC 20590. If you submit your comments electronically, log onto the Dockets Management System Web site at http://dms.dot.gov and click on “Help & Information” or “Help/Info” to obtain instructions. The fax number is 1-202-493-2251. To use the Federal eRulemaking Portal, go to http://www.regulations.gov and follow the online instructions for submitting comments.

We also request, but do not require you to send a copy to Charles J. Kahane, Chief, Evaluation Division, NPO-321, National Highway Traffic Safety Administration, Room 5208, 400 Seventh Street, SW., Washington, DC 20590 (alternatively, FAX to 202-366-2559 or e-mail to ckahane@nhtsa.dot.gov). He can check if your comments have been received at the Docket and he can expedite their review by NHTSA.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR Part 512).

In addition, send two copies from which you have deleted the claimed confidential business information to Docket Management, Room PL-401, 400 Seventh Street, SW., Washington, DC 20590, or submit them electronically.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW., Washington, DC from 10 a.m. to 5 p.m., Monday through Friday.

You may also see the comments on the Internet by taking the following steps:

A. Go to the Docket Management System (DMS) Web page of the Department of Transportation (http://dms.dot.gov).

B. On that page, click on “search.”

C. On the next page http://dms.dot.gov/search/ type in the four-digit Docket number shown at the beginning of this Notice (16318). Click on “search.”

D. On the next page, which contains Docket summary information for the Docket you selected, click on the desired comments. You may also download the comments.

Authority: 49 U.S.C. 30111, 30168; delegation of authority at 49 CFR 1.50 and 501.8.

Noble N. Bowie,
Associate Administrator for Planning, Evaluation and Budget.

[FR Doc. 03-29386 Filed 11-24-03; 8:45 am]

BILLING CODE 4910-59-P